DEPARTMENT OF TRANSPORTATION

Coast Guard

33 CFR Part 165

[COTP Honolulu 01-006]

RIN 2115-AA97

Security Zone; Various Areas on the Islands of Oahu, Maui, Hawaii, and Kauai, HI

AGENCY: Coast Guard, DOT.

ACTION: Temporary final rule.

SUMMARY: The Coast Guard is establishing security zones in designated waters adjacent to the islands of Oahu, Maui, Hawaii, and Kauai, HI for a period of six-months. These security zones are necessary to protect personnel, vessels, and facilities from acts of sabotage or other subversive acts, accidents, or other causes of a similar nature during operations and will extend from the surface of the water to the ocean floor. The activation and deactivation of these six-month security zones will be announced by Broadcast Notice to Mariners as required. When the zones are activated, entry into these zones is prohibited unless authorized by the U. S. Coast Guard Captain of the Port Honolulu, HI.

EFFECTIVE DATES: This rule is effective from 6 a.m. HST September 22, 2001, to 4 p.m. HST March 22, 2002.

ADDRESSES: The docket for this rulemaking is maintained by the Commanding Officer, U.S. Coast Guard Marine Safety Office Honolulu, 433 Ala Moana Blvd., Honolulu, Hawaii 96813. Docket material is available for inspection or copying at this location between 7 a.m. and 4:30 p.m. on weekdays, except Federal holidays.

FOR FURTHER INFORMATION CONTACT: LCDR R. T. Spaulding, U. S. Coast Guard Marine Safety Office Honolulu, Hawaii at (808) 522-8264.

SUPPLEMENTARY INFORMATION:

Regulatory Information

Recent terrorist incidents in New York and Washington, D.C. have called for the implementation of additional measures to protect the national security. These temporary rules are intended to provide for the safety and security of the public, maritime commerce, and transportation, by creating security zones in designated harbors, anchorages, facilities, and adjacent navigable waters of the United States. In accordance with 5 U.S.C. 553, a Notice of Proposed Rulemaking (NPRM) was not published for this regulation and good cause exists for making it effective in less than 30 days after Federal Register publication. Publishing an NPRM and delaying this action's effective date would be contrary to the public interest since immediate action is needed to protect various areas on the islands of Oahu, Maui, Hawaii, and Kauai, HI, any vessel moored there, and all involved personnel. Details were not available 30 days prior to the event, thus, there was insufficient time to publish a proposed rule in advance of the event or to provide a delayed effective date. Under these circumstances, following normal rulemaking procedures would be impracticable.

Background and Purpose

The Coast Guard is establishing designated security zones in the waters adjacent to the islands of Oahu, Maui, Hawaii, and Kauai, HI for a period of six-months. These security zones are necessary to protect personnel, vessels, and facilities from acts of sabotage or other subversive acts, accidents, or other causes of a similar nature during operations. These security zones extend from the surface of the water to the ocean floor. Entry into these zones is prohibited unless authorized by the U. S. Coast Guard Captain of the Port Honolulu, HI. Representatives of the Captain of the Port Honolulu will enforce these security zones. The Captain of the Port may be assisted by other federal or state agencies.

Regulatory Evaluation

This temporary final rule is not a significant regulatory action under section 3(f) of Executive Order 12866 and does not require an assessment of potential costs and benefits under section 6(a)(3) of that order. The Office of Management and Budget has not reviewed it under that order. It is not significant under the regulatory policies and procedures of the Department of Transportation (DOT) (44 FR 11040, February 26, 1979). The U. S. Coast Guard expects the economic impact of this action to be so minimal that a full Regulatory Evaluation under paragraph 10(e) of the regulatory policies and procedures of DOT is unnecessary. This expectation is based on the short duration of the zone and the limited geographic area affected by it.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000. The U. S. Coast Guard certifies under 5 U.S.C. 605(b) that this regulation will not have a significant economic impact on a substantial number of small entities. No small business impacts are anticipated due to the small size of the zone and the short duration of the security zone in any one area.

Assistance for Small Entities

Because we did not anticipate any small business impacts, we did not offer assistance to small entities in understanding the rule.

Collection of Information

This rule calls for no new collection of information under the Paperwork Reduction Act of 1995 (44 U.S.C. 3501-3520 et seq.).

Federalism

The U. S. Coast Guard has analyzed this rule under Executive Order 13132, and has determined this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government having first provided the funds to pay those unfunded mandate costs. This rule will not impose an unfunded mandate.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The U. S. Coast Guard considered the environmental impact of this action and concluded that, under figure 2-1, paragraph (34)(g) of Commandant Instruction M16475.1D, this rule is categorically excluded from further environmental documentation. As an emergency action, the environmental analysis requisite regulatory consultations, and categorical exclusion determination, will be prepared and submitted after establishment of this temporary security zone, and will be available for inspection or copying where indicated under addresses.

List of Subjects in 33 CFR Part 165

Harbors, Marine safety, Navigation (water), Reports and recordkeeping requirements, Security measures, Waterways.

Regulation

For the reasons set out in the preamble, the Coast Guard amends part 165 of Title 33, Code of Federal Regulations, as follows:

PART 165—[AMENDED]

1. The authority citation for part 165 continues to read as follows:

Authority: 33 U.S.C. 1231; 50 U.S.C. 191; 33 CFR 1.05-1(g), 6.04-1, 6.04-6, and 160.5; 49 CFR 1.46.

2. From 6 a.m. September 22, 2001, until 4 p.m. March 22, 2002, a new § 165.T14-058 is added to read as follows:

§ 165.T14-058 Security Zones: Various areas near the islands of Oahu, Maui, Hawaii, and Kauai, HI.

(a) Location. The following areas are security zones:

(1) All waters of Honolulu Harbor and entrance channel that are shoreward of the Sea Buoy in position 21°-17.42′ N/157°-52.49′ W.

(2) The waters around the Tesoro Single Point Mooring extending 1,000 yards in all directions from position 21°-16.4′ N/158°-05.5′ W.

(3) The Honolulu International Airport Reef Runway and adjacent waters bounded by a line connecting the following coordinates: Honolulu Harbor entrance light at 21°-17.42′ N/157°-52.06′ W, thence in a northwesterly direction to the reef runway at 21°-18.25′ N/157°-55.5′ W, thence in a southerly direction to 21°-16.9′ N/157°-55.5′ W, thence in an easterly direction to the point of origin.

(4) The waters extending out 500 feet in all directions from cruise ship vessels anchored off Lahaina Small Boat Harbor, Maui.

(5) The Kahului Maui Harbor and Entrance Channel consisting of all waters shoreward of a line drawn between breakwater lights number 3 and number 4.

(6) The waters extending out 500 feet in all directions from cruise ship vessels anchored off Kailua-Kona Small Boat Harbor, Hawaii.

(7) All waters within the Nawiliwili Kauai Harbor shoreward of a line drawn between the breakwater light and Kukil Point.

(8) All waters consisting of Port Allen Kauai Harbor and the entrance channel that are shoreward of Lighted Buoy 1.

(9) Hilo Harbor and Entrance Channel consisting of all waters shoreward of a line drawn between breakwater light and Alealea Pt.

(b) Designated representative. A designated representative of the Captain of the Port is any Coast Guard commissioned officer, warrant or petty officer that has been authorized by the Captain of the Port Honolulu to act on his behalf. The following officers have or will be designated by the Captain of the Port Honolulu: The senior Coast Guard boarding officer on each vessel enforcing the security zone.

(c) Regulations. In accordance with the general regulations in § 165.33 of this part, entry into these zones is prohibited unless authorized by the Captain of the Port or his designated representatives.

(d) Effective dates. This section is effective from 6 a.m. HST September 22, 2001, until 4 p.m. HST March 22, 2002.

Dated: September 20, 2001.
G.J. Kanazawa,
Captain, U. S. Coast Guard, Captain of the Port Honolulu.

[FR Doc. 01-26154 Filed 10-16-01; 8:45 am]

BILLING CODE 4910-15-P